DEPARTMENT OF THE INTERIOR

Bureau of Land Management

[CA 660-07-5101-ER]

Notice of Availability of Draft Environmental Impact Statement/Environmental Impact Report (EIS/EIR) for the Proposed Mountain View IV Wind Energy Project

AGENCY: Bureau of Land Management, Interior.

ACTION: Notice of Availability.

SUMMARY: In accordance with the National Environmental Policy Act of 1969 (NEPA, 42 U.S.C. 4321 et seq.) and the Federal Land Policy and Management Act of 1976 (FLPMA, 43 U.S.C. 1701 et seq.), the Bureau of Land Management (BLM), together with the City of Palm Springs, has prepared a Draft EIS/EIR for the Mountain View IV Wind Energy Project and by this notice is announcing the opening of the comment period. The BLM is the lead Federal agency for the preparation of this EIS in compliance with the requirements of NEPA. The City of Palm Springs is the lead agency for the State of California for the preparation of this EIR in compliance with the requirements of the California Environmental Quality Act (CEQA).

DATES: To assure that they will be considered, BLM must receive written comments on the Draft EIS/EIR within 45 days following the date the Environmental Protection Agency publishes their Notice of Availability in the Federal Register. The BLM will announce future meetings or hearings and any other public involvement activities at least 15 days in advance through public notices, media news releases, and/or mailings.

Documents pertinent to this proposal will be available for public review at the BLM Palm Springs-South Coast Field Office located at 690 W. Garnet Avenue, North Palm Springs, California, during regular business hours of 7:45 a.m. to 4:30 p.m., Monday through Friday, except holidays, and may be published as part of the EIS/EIR. Before including your address, phone number, e-mail address, or other personal identifying information in your comment, you should be aware that your entire comment—including your personal identifying information—may be made publicly available at any time. While you can ask us in your comment to withhold your personal identifying information from public review, we cannot guarantee that we will be able to do so.

ADDRESSES: You may submit comments by any of the following methods:

• Web Site: http://www.blm.gov/ca/palmsprings.

• E-mail: Greg_Hill@ca.blm.gov.

• Fax: (760) 251-4899.

• Mail: Bureau of Land Management, Palm Springs-South Coast Field Office, 690 W. Garnet Ave., P.O. Box 581260, North Palm Springs, CA 92258.

FOR FURTHER INFORMATION CONTACT: For further information contact Greg Hill, Bureau of Land Management, Palm Springs-South Coast Field Office, (760) 251-4840, or by e-mail at Greg_Hill@ca.blm.gov. A copy of the Draft EIS/EIR for the Proposed Mountain View IV Wind Energy Project is available for review at the BLM Palm Springs-South Coast Field Office at the above address, and at the Palm Springs Public Library located at 300 South Sunrise Way, Palm Springs, CA 92262. Copies are also available via the Internet at http://www.blm.gov/ca/palmsprings. Electronic (on CD-ROM) or paper copies may also be obtained by contacting Greg Hill at the aforementioned addresses and phone number.

SUPPLEMENTARY INFORMATION: Mountain View Power Partners IV, LLC has applied for a right-of-way on public lands and a conditional use permit on private lands to construct a wind energy generating facility in the Coachella Valley, in Riverside County. The project site is west of Indian Avenue and is within the corporate boundary of the City of Palm Springs and within the planning area for the draft Coachella Valley Multiple Species Habitat Conservation Plan. Operations are expected to last approximately 30 years. The proposed project would install a total of approximately 42 to 50 wind turbines on public and private lands, with a total generating capacity of approximately 49 megawatts. Related structures would include access roads, a 34.5-kV powerline and an electrical substation. If approved, the wind energy generating facility on public lands would be authorized in accordance with Title V of the Federal Land Policy and Management Act of 1976 (USC) and the Federal regulations at 43 CFR part 2800. The proposed project would take approximately 7 months to construct.

A Notice of Intent (NOI) to Prepare an EIS/EIR was published in the Federal Register on June 5, 2006; this NOI invited comments on issues which may have been relevant to preparation of the document. A public scoping meeting was held on June 27, 2006 at the Desert Highland Community Center, in the City of Palm Springs with notice of the meeting published in the Desert Sun newspaper. The meeting was held to help assist in identifying the range of actions, alternatives, mitigation measures, and significant effects to be analyzed in the EIS/EIR.

Dated: February 21, 2007.
John Kalish,
Acting Field Manager, Palm Springs-South Coast Field Office.

Editorial Note: This document was received at the Office of the Federal Register on April 16, 2007.

[FR Doc. E7-7427 Filed 4-18-07; 8:45 am]

BILLING CODE 4310-40-P